DEPARTMENT OF ENERGY

Federal Energy Regulatory Commission

[Project Nos. P-13404-002, P-13405-002, P-13406-002, P-13407-002, P-13408-002, and P-13411-002]

Clean River Power MR-1, LLC, Clean River Power MR-2, LLC, Clean River Power MR-3, LLC, Clean River Power MR-5, LLC, Clean River Power MR-6, LLC, Clean River Power MR-7, LLC; Notice of Scoping Meetings and Environmental Site Reviews and Soliciting Scoping Comments

a. Type of Applications: Original Major Licenses.

b. Project Nos. 13404-002, 13405-002, 13406-002, 13407-002, 13408-002, and 13411-002.

c. Dated Filed: October 31, 2012.

d. Applicants: Clean River Power MR-1, LLC; Clean River Power MR-2, LLC; Clean River Power MR-3, LLC; Clean River Power MR-5, LLC; Clean River Power MR-6, LLC; and Clean River Power MR-7, LLC (Clean River Power), subsidiaries of Free Flow Power Corporation.

e. Names of Projects: Beverly Lock and Dam Project, P-13404-002; Devola Lock and Dam Project, P-13405-002; Malta/McConnelsville Lock and Dam Project, P-13406-002; Lowell Lock and Dam Project, P-13407-002; Philo Lock and Dam Project, P-13408-002; and Rokeby Lock and Dam Project, P-13411-002.

f. Location: At existing locks and dams formally owned and operated by the U.S. Army Corps of Engineers but now owned and operated by the State of Ohio on the Muskingum River in Washington, Morgan, and Muskingum counties, Ohio (see table below for specific project locations).

Project No. | Projects | County(s) | City/town
P-13404 | Beverly Lock and Dam | Washington | Upstream of the city of Beverly.
P-13405 | Devola Lock and Dam | Washington | Near the city of Devola.
P-13406 | Malta/McConnelsville Lock and Dam | Morgan | Southern shore of the town of McConnelsville.
P-13407 | Lowell Lock and Dam | Washington | West of the city of Lowell.
P-13408 | Philo Lock and Dam | Muskingum | North of the city of Philo.
P-13411 | Rokeby Lock and Dam | Morgan | Near the city of Rokeby.

g. Filed Pursuant to: Federal Power Act, 16 U.S.C. 791 (a)-825(r).

h. Applicant Contacts: Ramya Swaminathan, Chief Operating Officer, Free Flow Power Corporation, 239 Causeway Street, Suite 300, Boston, MA 02114; or at (978) 283-2822.

Daniel Lissner, General Counsel, Free Flow Power Corporation, 239 Causeway Street, Suite 300, Boston, MA 02114; or at (978) 283-2822.

Alan Topalian, Regulatory Attorney, Free Flow Power Corporation, 239 Causeway Street, Suite 300, Boston, MA 02114; or at (978) 283-2822.

i. FERC Contact: Aaron Liberty at (202) 502-6862; or email at aaron.liberty@ferc.gov.

j. Deadline for filing scoping comments: July 23, 2013.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The applications are not ready for environmental analysis at this time.

l. The proposed Devola Lock and Dam Project would be located at the existing Devola Lock and Dam on the Muskingum River at RM 5.8. The Devola dam is a 587-foot-long, 17-foot-high dam that impounds a 301-acre reservoir at a normal pool elevation of 592.87 feet North American Vertical Datum of 1988 (NAVD 88). The applicant proposes to remove 187 feet of the existing dam to construct a 154-foot-long overflow weir. The project would also consist of the following new facilities: (1) A 37-foot-long, 52-foot-high, 80-foot-wide intake structure with trash racks containing 2-inch clear bar spacing; (2) a 80-foot by 160-foot powerhouse located on the bank of the Muskingum River opposite the existing lock; (3) two turbine-generator units providing a combined installed capacity of 4.0 megawatts (MW); (4) a 65-foot-long, 80-foot-wide draft tube; (5) a 125-foot-long, 140-foot-wide tailrace; (6) a 40-foot by 40-foot substation; (7) a 3,600-foot-long, three-phase, overhead 69-kilovolt (kV) transmission line to connect the project substation to the local utility distribution lines; and (8) appurtenant facilities.

The proposed Lowell Lock and Dam Project would be located at the existing Lowell dam on the Muskingum River at RM 13.6. The Lowell dam is an 840-foot-long, 18-foot-high dam that impounds a 628-acre reservoir at a normal pool elevation of 607.06 feet NAVD 88. The applicant proposes to remove 204 feet of the existing dam to construct a 143.5-foot-long overflow weir. The project would also consist of the following new facilities: (1) A 37-foot-long, 23-foot-high, 80-foot-wide intake structure with trash racks that contain 2-inch clear bar spacing; (2) a 75-foot by 160-foot powerhouse located adjacent to the left bank of the dam; (3) two turbine-generator units providing a combined installed capacity of 5 MW; (4) a 65-foot-long, 75-foot-wide draft tube; (5) a 100-foot-long, 125-foot-wide tailrace; (6) a 40-foot by 40-foot substation; (7) a 1,200-foot-long, three-phase, overhead 69-kV transmission line to connect the project substation to the local utility distribution lines; and (8) appurtenant facilities.

The proposed Beverly Lock and Dam Project would be located at the existing Beverly Lock and Dam on the Muskingum River at RM 24.6. The Beverly dam is a 535-foot-long, 17-foot-high dam that impounds a 490-acre reservoir at a normal pool elevation of 616.36 feet NAVD 88. The project would also consist of the following new facilities: (1) A 37-foot-long, 52-foot-high, 88-foot-wide intake structure with trash racks containing 2-inch clear bar spacing; (2) a 75-foot by 160-foot powerhouse located downstream of the dam on the left bank of the Muskingum River; (3) two turbine-generator units providing a combined installed capacity of 3.0 MW; (4) a 65-foot-long, 75-foot-wide draft tube; (5) a 90-foot-long, 150-foot-wide tailrace; (6) a 40-foot by 40-foot substation; (7) a 970-foot-long, three-phase, overhead 69-kV transmission line to connect the project substation to the local utility distribution lines; and (8) appurtenant facilities.

The proposed Malta/McConnelsville Lock and Dam Project would be located at the existing Malta/McConnelsville dam on the Muskingum River at RM 49.4. The Malta/McConnelsville dam is a 605.5-foot-long, 15.2-foot-high dam that impounds a 442-acre reservoir at a normal pool elevation of 649.48 feet NAVD 88. The applicant proposes to remove 187.5 feet of the existing dam to construct a 100-foot-long overflow weir. The project would also consist of the following new facilities: (1) A 37-foot-long, 52-foot-high, 80-foot-wide intake structure with trash racks containing 2-inch clear bar spacing; (2) a 80-foot by 160-foot powerhouse located adjacent to the right bank of the dam; (3) two turbine-generator units providing a combined installed capacity of 4.0 MW; (4) a 65-foot-long, 80-footwide draft tube; (5) a 100-foot-long, 130-foot-wide tailrace; (6) a 40-foot by 40-foot substation; (7) a 1,500-foot-long, three-phase, overhead 69-kV transmission line to connect the project substation to the local utility distribution lines; and (8) appurtenant facilities.

The proposed Rokeby Lock and Dam Project would be located at the existing Rokeby dam on the Muskingum River at RM 57.4. The Rokeby dam is a 525-foot-long, 20-foot-high dam that impounds a 615-acre reservoir at a normal pool elevation of 660.3 feet NAVD 88. The project would also consist of the following new facilities: (1) A 37-foot-long, 52-foot-high, 80-foot-wide intake structure with trash racks that contain 2-inch clear bar spacing; (2) a 75-foot by 160-foot powerhouse located on the bank of the Muskingum River opposite the existing lock; (3) two turbine-generator units providing a combined installed capacity of 4 MW; (4) a 65-foot-long, 75-foot-wide draft tube; (5) a 160-foot-long, 200-foot-wide tailrace; (6) a 40-foot by 40-foot substation; (7) a 490-foot-long, three-phase, overhead 69-kV transmission line to connect the project substation to the local utility distribution lines; and (8) appurtenant facilities.

The proposed Philo Lock and Dam Project would be located at the existing Philo dam on the Muskingum River at RM 68.6. The Philo dam is a 730-foot-long, 17-foot-high dam that impounds a 533-acre reservoir at a normal pool elevation of 671.39 feet NAVD 88. The applicant proposes to remove 128 feet of the existing dam to construct a 40-foot-long flap gate. The project would also consist of the following new facilities: (1) A 37-foot-long, 52-foot-high, 80-foot-wide intake structure with trash racks that contain 2-inch clear bar spacing; (2) a 75-foot by 160-foot powerhouse located on the bank of the Muskingum River opposite the existing lock; (3) two turbine-generator units providing a combined installed capacity of 3 MW; (4) a 65-foot-long, 80-foot-wide draft tube; (5) a 140-foot-long, 180-foot-wide tailrace; (6) a 40-foot by 40-foot substation; (7) a 1,600-foot-long, three-phase, overhead 69-kV transmission line to connect the project substation to the local utility distribution lines; and (8) appurtenant facilities.

The applicant proposes to operate all six projects in a run-of-river mode, such that the water surface elevations within each project impoundment would be maintained at the crest of each respective dam spillway. The Beverly, Devola, Malta/McConnelsville, Lowell, Philo, and Rokeby Lock and Dam water power projects would have average annual energy production values of 17,850 megawatt-hours (MWh), 20,760 MWh, 21,900 MWh, 31,000 MWh, 15,960 MWh, 17,180 MWh, respectively.

m. A copy of the applications are available for review at the Commission in the Public Reference Room or may be viewed on the Commission's Web site at http://www.ferc.gov using the “eLibrary” link. Enter the docket number excluding the last three digits in the docket number field to access the document. For assistance, contact FERC Online Support. Copies are also available for inspection and reproduction at the address in item h above.

You may also register online at http://www.ferc.gov/docs-filing/esubscription.asp to be notified via email of new filings and issuances related to this or other pending projects. For assistance, contact FERC Online Support.

n. Scoping Process:

The Commission intends to prepare a multi-development Environmental assessment (EA) on the projects in accordance with the National Environmental Policy Act. The EA will consider both site-specific and cumulative environmental impacts and reasonable alternatives to the proposed actions.

Scoping Meetings

FERC staff will conduct once agency scoping meeting and two public meetings. The agency scoping meeting will focus on resource agency and non-governmental organization (NGO) concerns, while the public scooping meetings are primarily for public input. All interested individuals, organizations, and agencies are invited to attend one or all of the meetings, and to assist the staff in identifying the scope of the environmental issues that should be analyzed in the EA. The times and locations of these meetings are as follows:

Agency Scoping Meeting

Date: Wednesday, June 26, 2013

Time: 9:00 a.m.

Place: Holiday Inn Express

Address: 1101 Spring Street, Zanesville, Ohio 43701

Public Scoping Meetings

Date: Tuesday, June 25, 2013

Time: 7:00 p.m.

Place: Twin City Opera House

Address: 15 W. Main Street, McConnelsville, Ohio 43756

Date: Wednesday, June 26, 2013

Time: 7:00 p.m.

Place: Holiday Inn Express

Address: 1101 Spring Street, Zanesville, Ohio 43701.

Copies of the Scoping Document (SD1) outlining the subject areas to be addressed in the EA were distributed to the parties on the Commission's mailing list. Copies of the SD1 will be available at the scoping meetings or may be viewed on the web at http://www.ferc.gov using the “eLibrary” link (see item m above).

Environmental Site Reviews

The Applicant and FERC staff will conduct project Environmental Site Reviews beginning at 9:00 a.m. on Tuesday, June 25, 2013. All interested individuals, organizations, and agencies are invited to attend. We will also conduct site reviews of the Lowell Lock and Dam, Beverly Lock and Dam, and Malta/McConnelsville Lock and Dam, following at approximately 10 a.m., 11 a.m., and 12 p.m., respectively. Depending upon the level of interest, we will continue the site reviews for the Philo Lock and Dam and Rokeby Lock and Dam on Wednesday, June 26, 2013, at approximately 12 p.m. and 1 p.m., respectively, between the scheduled daytime and evening scoping meetings. All participants are responsible for their own transportation to the site. Attendees wishing to attend any or all of the site reviews should assemble at the specified times and locations provided below. Anyone with questions about the Environmental Site Reviews should contact Mr. Dan Lissner of Free Flow Power at (978) 283-2822.

Project: Devola Lock and Dam

Date & Time: Tuesday, June 25, 2013 at 9:00 a.m.

Location: Ohio DNR parking lot at the end of River Road, Devola, Ohio 45750

Project: Lowell Lock and Dam

Date & Time: Tuesday, June 25, 2013 at 10:00 a.m.

Location: Ohio DNR parking lot just beyond 7969 Muskingum River Road, Lowell, Ohio 45744

Project: Beverly Lock and Dam

Date & Time: Tuesday, June 25, 2013 at 11:00 a.m.

Location: Ohio DNR parking lot at the Muskingum River Park Lock 4 and Canal on 3rd Street, Beverly, Ohio 45715

Project: Malta/McConnelsville Lock and Dam

Date & Time: Tuesday, June 25, 2013 at 12:00 p.m.

Location: Ohio DNR parking lot on N. Riverside Drive at 14th Street, McConnelsville, Ohio 43756

Project: Philo Lock and Dam

Date & Time: Wednesday, June 26, 2013 at 12:00 p.m.

Location: Duncan Falls-Philo Branch Library, 222 Main Street, Duncan Falls, Ohio 43734

Project: Rokeby Lock and Dam

Date & Time: Wednesday, June 26, 2013 at 1:00 p.m.

Location: Ohio DNR parking lot at the intersection of Main Street and N. Greer Road, near 8911 Ohio 60, McConnelsville, Ohio 43756

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Dated: May 24, 2013.
Kimberly D. Bose,
Secretary.

[FR Doc. 2013-13116 Filed 6-3-13; 8:45 am]

BILLING CODE 6717-01-P